Title 3—

The President

Proclamation 7453 of June 29, 2001

Black Music Month, 2001

By the President of the United States of America

A Proclamation

America's rich musical heritage reflects the diversity of our people. Among many influences, the cultural traditions brought to this land from Africa more than four centuries ago and the remarkable musical achievements of African Americans since then have strongly and unmistakably improved the sound of American music.

From historical burdens such as slavery and injustice to the celebration of faith, much of the origin of African-American music reflects our national story. The work songs, shouts and hollers, spirituals, and ragtime of an earlier era laid the creative foundation for many of America's most distinctive and popular musical genres. These include rhythm and blues, jazz, hip hop, gospel, rap, and the roots of rock and roll.

Jazz, often called America's classical music, so influenced our culture that Americans named a decade after it. Like the country of its birth, jazz blends many traditions, such as African-American folk, rhythm and blues, French Creole classical form, and gospel. Through the creation and performance of music like jazz, black Americans were better able to exchange ideas freely across racial and cultural barriers. Before our Nation made significant strides in truly promoting equal justice and opportunity for all, black and white musicians in the genres of jazz, blues, and country played together in jam sessions, recording studios, and small bands. In many ways, their art preceded social change, allowing black and white musicians to meet as equals and to be judged on their musical ability, rather than the color of their skin. Their music also provided an outlet for African Americans to speak passionately and brilliantly to the rest of the Nation and the world.

From New Orleans and the back roads of the Mississippi Delta to Harlem and Chicago, black musicians set enduring and distinctive standards for American creativity. The blues of Ma Rainey and Bessie Smith, the gospel of Mahalia Jackson, the jazz of Duke Ellington, and the soul of Marvin Gaye claim fans of all ages from around the world. The trumpeting genius of Louis Armstrong and Dizzy Gillespie illustrate the exceptional musicianship so prominent in various genres of African-American music.

The career of Marian Anderson, the world-class contralto who was denied permission to sing in Constitution Hall because of her race, symbolizes the achievements of so many black American musicians. Performing instead at the Lincoln Memorial in 1939, she drew an audience of 75,000 and inspired the world not only with her rich musical gifts, but also with her determination and courage.

The music of Marian Anderson and other African-American artists has greatly enriched our quality of life and created one of our Nation's most treasured art forms. As universal and original expressions of the human experience, their body of work, both past and present, entertains, inspires, and thrills countless people around the world.

NOW, THEREFORE, I, GEORGE W. BUSH, President of the United States of America, by virtue of the authority vested in me by the Constitution and the laws of the United States, do hereby proclaim June 2001, as Black Music Month. I encourage all Americans to learn more about the contributions of black artists to America's musical heritage and to celebrate their remarkable role in shaping our history and culture.

IN WITNESS WHEREOF, I have hereunto set my hand this twenty-ninth day of June, in the year of our Lord two thousand one, and of the Independence of the United States of America the two hundred and twenty-fifth.

B

[FR Doc. 01-16911

Filed 07-02-01; 10:54 am]

Billing code 3195-01-P